DEPARTMENT OF COMMERCE

International Trade Administration

[A-588-851]

Certain Small Diameter Carbon and Alloy Seamless Standard, Line, and Pressure Pipe (Under 4½ Inches) From Japan: Final Results of Antidumping Duty Administrative Review and Final Determination of No Shipments; 2014-2015

AGENCY: Enforcement and Compliance, International Trade Administration, Department of Commerce.

SUMMARY: On July 12, 2016, the Department of Commerce (the Department) published the preliminary results of the administrative review of the antidumping duty order on certain small diameter carbon and alloy seamless standard, line, and pressure pipe (under 4½ inches) from Japan. The period of review (POR) is June 1, 2014, through May 31, 2015. The review covers five producers or exporters of subject merchandise. We invited parties to comment on the Preliminary Results. None were received. Accordingly, for the final results, we continue to find that that NKK Tubes (NKK) had no shipments during the POR. Further, we continue to find that subject merchandise has been sold in the United States at less than normal value by JFE Steel Corporation (JFE), Nippon Steel & Sumitomo Metal Corporation (NSSMC), Nippon Steel Corporation (NSC), and Sumitomo Metal Industries, Ltd. (SMI).

DATES: Effective November 16, 2016.

FOR FURTHER INFORMATION CONTACT: Peter Zukowski, AD/CVD Operations, Office I, Enforcement and Compliance, International Trade Administration, U.S. Department of Commerce, 1401 Constitution Avenue NW., Washington, DC 20230; telephone: (202) 482-0189.

SUPPLEMENTARY INFORMATION:

Background

On July 12, 2016, the Department published the Preliminary Results of the administrative review.¹ The Department gave interested parties an opportunity to comment on the Preliminary Results. We received no comments. The Department conducted this review in accordance with section 751(a)(2) of the Tariff Act of 1930, as amended (the Act).

¹ See Certain Small Diameter Carbon and Alloy Seamless Standard, Line, and Pressure Pipe (Under 4½ Inches) from Japan: Preliminary Results of Antidumping Duty Administrative Review and Preliminary Determination of No Shipments; 2014-2015, 81 FR 45124 (July 12, 2016) (Preliminary Results).

Scope of the Order

The merchandise subject to the order is certain small diameter carbon and alloy seamless standard, line, and pressure pipe (under 4½ inches) from Japan, which is currently classified under subheading 7304.10.10.30, 7304.10.10.45, 7304.10.10.60, 7304.10.50.50, 7304.19.10.30, 7304.19.10.45, 7304.19.10.60, 7304.19.50.50, 7304.31.60.10, 7304.31.60.50, 7304.39.00.04, 7304.39.00.06, 7304.39.00.08, 7304.39.00.36, 7304.39.00.40, 7304.39.00.44, 7304.39.00.48, 7304.39.00.52, 7304.39.00.56, 7304.39.00.62, 7304.39.00.68, 7304.39.00.72, 7304.51.50.15, 7304.51.50.45, 7304.51.50.60, 7304.59.20.30, 7304.59.20.55, 7304.59.20.60, 7304.59.20.70, 7304.59.60.00, 7304.59.80.30, 7304.59.80.35, 7304.59.80.40, 7304.59.80.45, 7304.59.80.50, 7304.59.80.55, 7304.59.80.60, 7304.59.80.65, and 7304.59.80.70 of the Harmonized Tariff Schedule of the United States (HTSUS). Although the HTSUS subheadings are provided for convenience and customs purposes, the written description of the merchandise subject to the order is dispositive.²

² For a full description of the scope of the order, see the “Preliminary Decision Memorandum for the Administrative Review of the Antidumping Duty Order on Certain Small Diameter Carbon and Alloy Seamless Standard, Line, and Pressure Pipe (Under 4½ Inches) from Japan; 2014-2015 Administrative Review” from Gary Taverman, Associate Deputy Assistant Secretary for Antidumping and Countervailing Duty Operations, to Ronald K. Lorentzen, Acting Assistant Secretary for Enforcement and Compliance, dated July 5, 2016, which can be accessed directly at http://enforcement.trade.gov/frn/, (Preliminary Decision Memorandum).

Final Determination of No Shipments

As noted in the Preliminary Results, the Department received a claim of no shipments from NKK. In the Preliminary Results, the Department preliminarily found that NKK did not have reviewable entries during the POR. Additionally, the Department stated in the Preliminary Results that it was not appropriate to rescind the review with respect to NKK at that time, but rather complete the review with respect to NKK and issue appropriate instructions to U.S. Customs and Border Protection (CBP) based on the final results.

After issuing the Preliminary Results, the Department received no comments from interested parties, and has not received any information that would cause it to alter its preliminary determination. Therefore, for these final results, the Department continues to find that NKK did not have any reviewable entries during the POR.

Final Results of Review

Because the Department received no comments after the Preliminary Results for consideration for these final results, we have made no changes to the Preliminary Results. As a result of this review, we determine that dumping margins on certain small diameter carbon and alloy seamless standard, line, and pressure pipe (under 4½ inches) from Japan exist for the period June 1, 2014, through May 31, 2015, at the following rates:

Producer and/or exporter | Margin (percent)
JFE Steel Corporation | 106.07
Nippon Steel & Sumitomo Metal Corporation | 106.07
Nippon Steel Corporation | 106.07
Sumitomo Metals Industries | 106.07

Assessment

The Department has determined, and CBP shall assess, antidumping duties on all appropriate entries of subject merchandise in accordance with the final results of this review.³ The Department intends to issue assessment instructions to CBP 15 days after the date of publication of these final results of review. We will instruct CBP to apply an ad valorem assessment rate of 106.07 percent to all entries of subject merchandise during the POR which were produced and/or exported by NSSMC, and an ad valorem assessment rate of 106.07 percent to all entries of subject merchandise during the POR which were produced and/or exported by the companies that were not selected for individual examination: JFE, NSC, and SMI.⁴ Additionally, because the Department determined that NKK had no shipments of subject merchandise during the POR, any suspended entries that entered under NKK's AD case number (i.e., at that exporter's rate) will be liquidated at the all-others rate effective during the period of review if there is no rate for the intermediate company(ies) involved in the transaction.⁵

³ See 19 CFR 351.212(b).

⁴ See Preliminary Decision Memorandum at section V.b “Rate for Non-Examined Companies” (for an explanation of how we preliminarily determined the rate for non-selected companies).

⁵ See Antidumping and Countervailing Duty Proceedings: Assessment of Antidumping Duties, 68 FR 23954 (May 6, 2003).

Cash Deposit Requirements

The following deposit requirements will be effective upon publication of the notice of final results of administrative review for all shipments of certain small diameter carbon and alloy seamless standard, line, and pressure pipe (under 4½ inches) from Japan entered, or withdrawn from warehouse, for consumption on or after the date of publication, as provided by section 751(a)(2) of the Act: (1) The cash deposit rates for the reviewed companies will be the rates established in the final results of this review; (2) for merchandise exported by manufacturers or exporters not covered in this review but covered in a prior segment of the proceeding, the cash deposit rate will continue to be the company-specific rate published for the most recently completed segment of this proceeding; (3) if the exporter is not a firm covered in this review, a prior review, or the less-than-fair-value investigation but the manufacturer is, the cash deposit rate will be the rate established for the most recently completed segment of this proceeding for the manufacturer of the merchandise; (4) if neither the exporter nor the manufacturer has its own rate, the cash deposit rate will continue to be 70.43 percent, the all-others rate established in the order.⁶ These deposit requirements, when imposed, shall remain in effect until further notice.

⁶ See Notice of Antidumping Duty Orders: Certain Large Diameter Carbon and Alloy Seamless Standard, Line and Pressure Pipe from Japan; and Certain Small Diameter Carbon and Alloy Seamless Standard, Line and Pressure Pipe From Japan and the Republic of South Africa, 65 FR 39360 (June 26, 2000).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: November 9, 2016.
Paul Piquado,
Assistant Secretary for Enforcement and Compliance.

[FR Doc. 2016-27520 Filed 11-15-16; 8:45 am]

BILLING CODE 3510-DS-P